NATIONAL FOUNDATION ON THE ARTS AND THE HUMANITIES

National Endowment for the Arts

National Council on the Arts 218th Meeting

AGENCY: National Endowment for the Arts, National Foundation on the Arts and Humanities.

ACTION: Notice of meeting.

SUMMARY: Pursuant to section 10 (a)(2) of the Federal Advisory Committee Act, as amended, notice is hereby given that a meeting of the National Council on the Arts will be held open to the public via videoconference.

DATES: See the SUPPLEMENTARY INFORMATION section for meeting time and date.

ADDRESSES: The National Endowment for the Arts, Constitution Center, 400 Seventh Street SW, Washington, DC 20560. Please see arts.gov for the most up-to-date information.

FOR FURTHER INFORMATION CONTACT: Office of Public Affairs, National Endowment for the Arts, Washington, DC 20506, at PublicAffairs@arts.gov.

SUPPLEMENTARY INFORMATION: The meeting will take place on January 22, 2026, from 2:00 p.m. to 3:00 p.m., and will be open to the public via videoconference. If, in the course of the open session discussion, it becomes necessary for the Council to discuss non-public commercial or financial information of intrinsic value, the Council will go into closed session pursuant to subsection (c)(4) of the Government in the Sunshine Act, 5 U.S.C. 552b, and in accordance with the March 11, 2022 determination of the Chair. Additionally, discussion concerning purely personal information about individuals, such as personal biographical and salary data or medical information, may be conducted by the Council in closed session in accordance with subsection (c) (6) of 5 U.S.C. 552b.

Detailed Meeting Information

Open Session: January 22, 2026; 2:00 p.m. to 3:00 p.m. Location: National Endowment for the Arts, Washington, DC, via videoconference. There will be a discussion of general agency business. Please see arts.gov for the most up-to-date information, including a link to the videoconference.

Dated: January 9, 2026.
Daniel Beattie,
Director, Office of Guidelines and Panel Operations.

[FR Doc. 2026-00496 Filed 1-12-26; 8:45 am]

BILLING CODE 7537-01-P